DEPARTMENT OF ENERGY

Federal Energy Regulatory Commission

[Docket No. ER02-320-003

Trans-Elect, Inc., Michigan Transco Holdings, L.P., Consumers Energy Company and Michigan Electric Transmission Company; Notice of Filing

April 15, 2002.

Take notice that on April 9, 2002 Consumers Energy Company (CECo) filed changes to its easement agreement with Michigan Electric Transmission Company which agreement is associated with the transfer of CECo's electrical transmission facilities to a subsidiary of Trans-Elect, Inc.

CECo states that the purpose of this filing is to comply with Ordering Paragraph (D) of the Federal Energy Regulatory Commission's (Commission) Order On Rehearing and Compliance Filing, 98 FERC ¶ 61,368 (March 29, 2002).

CECo states that a copy of this filing is available for public inspection during regular business hours at CECo's Washington legal office at 1016 16th Street, NW., Suite 100, Washington, DC 20036. In addition copies of this filing are being served on all parties and the Michigan Public Service Commission.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: April 22, 2002.

Magalie R. Salas,
Secretary.

[FR Doc. 02-9704 Filed 4-19-02; 8:45 am]

BILLING CODE 6717-01-M